DEPARTMENT OF HEALTH AND HUMAN SERVICES

Office of the Secretary

2009 HHS Poverty Guidelines Extended Until March 1, 2010

AGENCY: Department of Health and Human Services.

ACTION: Notice.

SUMMARY: This notice advises that, pursuant to section 1012 of the Department of Defense Appropriations Act, 2010, the 2009 Department of Health and Human Services (HHS) poverty guidelines will remain in effect until updated 2010 poverty guidelines are published, which shall not take place before March 1, 2010.

DATES: Effective Date: Date of publication.

ADDRESSES: Office of the Assistant Secretary for Planning and Evaluation, Room 404E, Humphrey Building, Department of Health and Human Services, Washington, DC 20201.

FOR FURTHER INFORMATION CONTACT: For information about how the guidelines are used or how income is defined in a particular program, contact the Federal, State, or local office that is responsible for that program. For information about poverty figures for immigration forms, the Hill-Burton Uncompensated Services Program, and the number of people in poverty, use the specific telephone numbers and addresses given below.

For general questions about the poverty guidelines themselves, contact Gordon Fisher, Office of the Assistant Secretary for Planning and Evaluation, Room 404E, Humphrey Building, Department of Health and Human Services, Washington, DC 20201—telephone: (202) 690-7507—or visit http://aspe.hhs.gov/poverty/.

For information about the percentage multiple of the poverty guidelines to be used on immigration forms such as USCIS Form I-864, Affidavit of Support, contact U.S. Citizenship and Immigration Services at 1-800-375-5283.

For information about the Hill-Burton Uncompensated Services Program (free or reduced-fee health care services at certain hospitals and other facilities for persons meeting eligibility criteria involving the poverty guidelines), contact the Office of the Director, Division of Facilities Compliance and Recovery, Health Resources and Services Administration, HHS, Room 10-105, Parklawn Building, 5600 Fishers Lane, Rockville, Maryland 20857. To speak to a staff member, please call (301) 443-5656. To receive a Hill-Burton information package, call 1-800-638-0742 (for callers outside Maryland) or 1-800-492-0359 (for callers in Maryland). You also may visit http://www.hrsa.gov/hillburton/default.htm.

For information about the number of people in poverty, visit the Poverty section of the Census Bureau's Web site at http://www.census.gov/hhes/www/poverty/poverty.html or contact the Census Bureau's Demographic Call Center Staff at (301) 763-2422 or 1-866-758-1060 (toll-free).

SUPPLEMENTARY INFORMATION: Under authority of section 1012 of the Department of Defense Appropriations Act, 2010 (Pub. L. 111-118), the HHS poverty guidelines that were published in the Federal Register (74 FR 4199) on January 23, 2009, shall remain in effect until the Secretary of Health and Human Services publishes updated poverty guidelines for 2010, which shall not take place before March 1, 2010. The 2009 poverty guideline figures which shall remain in effect are given below.

2009 Poverty Guidelines for the 48 Contiguous States and the District of Columbia
Persons in family | Poverty guideline
1 | $10,830
2 | 14,570
3 | 18,310
4 | 22,050
5 | 25,790
6 | 29,530
7 | 33,270
8 | 37,010

For families with more than 8 persons, add $3,740 for each additional person.

2009 Poverty Guidelines for Alaska
Persons in family | Poverty guideline
1 | $13,530
2 | 18,210
3 | 22,890
4 | 27,570
5 | 32,250
6 | 36,930
7 | 41,610
8 | 46,290

For families with more than 8 persons, add $4,680 for each additional person.

2009 Poverty Guidelines for Hawaii
Persons in family | Poverty guideline
1 | $12,460
2 | 16,760
3 | 21,060
4 | 25,360
5 | 29,660
6 | 33,960
7 | 38,260
8 | 42,560

For families with more than 8 persons, add $4,300 for each additional person.

Dated: January 19, 2010.
Kathleen Sebelius,
Secretary of Health and Human Services.

[FR Doc. 2010-1234 Filed 1-21-10; 8:45 am]

BILLING CODE 4151-05-P